DEPARTMENT OF HEALTH AND HUMAN SERVICES

DEPARTMENT OF AGRICULTURE

Announcement of Meeting of 2005 Dietary Guidelines Advisory Committee and Solicitation of Written Comments

AGENCIES: U.S. Department of Health and Human Services, Office of Public Health and Science; and U.S. Department of Agriculture, Food, Nutrition and Consumer Services (FNCS) and Research, Education and Economics (REE).

ACTION: Notice.

SUMMARY: The Department of Health and Human Services (HHS) and the Department of Agriculture (USDA) (a) provide notice of the first meeting of the Dietary Guidelines Advisory Committee, and (b) solicit written comments pertinent to review of the Dietary Guidelines for Americans.

DATES: (1) The Committee will meet on September 23 and 24, 2003, from 9 a.m.-5 p.m. (2) Written comments on the guidelines received by 5 p.m. E.D.T. on September 16, 2003 will be ensured transmission to the Committee prior to this meeting. Written comments will be accepted throughout the Committee's deliberations.

ADDRESSES: The first meeting will take place at the Hubert Humphrey Building, Room 800, 200 Independence Avenue, SW., Washington, DC. Written comments can be sent to dietaryguidelines@osophs.dhhs.gov or mailed to Kathryn McMurry, HHS Office of Disease Prevention and Health Promotion, Room 738-G, 200 Independence Avenue, SW., Washington, DC 20201.

FOR FURTHER INFORMATION CONTACT: HHS Co-Executive Secretaries: Kathryn McMurry or Karyl Thomas Rattay (phone 202-690-7102), HHS Office of Disease Prevention and Health Promotion, Room 738-G, 200 Independence Avenue, SW., Washington, DC 20201. USDA Co-Executive Secretaries: Carole Davis (phone 703-305-7600), USDA Center for Nutrition Policy and Promotion, 3101 Park Center Drive, Room 1034, Alexandria, Virginia 22302, or Pamela Pehrsson (phone (301) 504-0716), USDA, Agricultural Research Service, Beltsville Agricultural Research Center-West, Building 005, Room 309A, Beltsville, Maryland 20705. Additional information is available on the Internet at http://www.health.gov/dietaryguidelines.

SUPPLEMENTARY INFORMATION: Purpose of Meeting: The National Nutrition Monitoring and Related Research Act of 1990 (Pub. L. 101-445, Title III) requires the Secretaries of USDA and HHS to publish the Dietary Guidelines for Americans at least every five years. The Dietary Guidelines Advisory Committee will review the 2000 edition of Nutrition and Your Health: Dietary Guidelines for Americans and advise the Secretaries as to whether, based on current scientific and medical knowledge, revision is warranted. If the Committee decides revision is necessary, it will prepare a report to recommend revisions to the Secretaries for the year 2005 edition.

Announcement of Meeting: The Committee's first meeting will be September 23 and 24, from 9 a.m.-5 p.m. The meeting will be held in Room 800, at the Hubert Humphrey Building, 200 Independence Avenue, SW., Washington, DC. The building is located 2 blocks from the Federal Center, SW stop on the blue and orange metro lines. Parking is limited, but is available at the corner of 6th and C St. The agenda will include (a) orientation, (b) brief scientific review and discussion related to the guidelines, and (c) formulation of plans for future work of the Committee.

Public Participation: The meeting is open to the public. Due to the need for security screening, pre-registration is required and all visitors must bring a photo I.D. To pre-register, please call Marianne Augustine at (202) 690-7102 by 5 p.m. E.D.T., September 19, 2003. Space is limited for all sessions. Written comments from the public will be accepted; opportunities to present oral comments may be provided at future meetings. Please call Marianne Augustine by 5 p.m. E.D.T., September 12, 2003, should you require a sign language interpreter. Documents pertaining to Committee deliberations will be available for public inspection and copying in Room 738-G, 200 Independence Avenue, SW., Washington, DC 20201 on the day before the meeting and following the meeting. Please call (202) 690-7102 to schedule an appointment to view the documents.

Written Comment: By this notice, the Committee is soliciting written comments, views, information and data pertinent to review of the Dietary Guidelines for Americans. Written comments are welcome throughout the Committee's deliberations. To be considered for the first meeting, they must be received by 5 p.m. E.D.T. on September 16, 2003. Comments should be sent to dietaryguidelines@osophs.dhhs.gov or to Kathryn McMurry, HHS Office of Disease Prevention and Health Promotion, Room 738-G, 200 Independence Avenue, SW., Washington, DC 20201.

Dated: August 26, 2003.
Carter Blakey,
Acting Deputy Assistant Secretary for Health, U.S. Department of Health and Human Services.
Dated: August 27, 2003.
Eric J. Hentges,
Executive Director, Center for Nutrition Policy and Promotion, U.S. Department of Agriculture.
Dated: August 28, 2003.
Edward Knipling,
Acting Administrator, Agricultural Research Service, U.S. Department of Agriculture.

[FR Doc. 03-22480 Filed 9-3-03; 8:45 am]

BILLING CODE 4150-32-P